FEDERAL TRADE COMMISSION

SES Performance Review Board

AGENCY: Federal Trade Commission.

ACTION: Notice

SUMMARY: Notice is hereby given of the appointment of members to the FTC Performance Review Board

FOR FURTHER INFORMATION CONTACT: Karen Leydon, Director of Human Resources, 600 Pennsylvania Avenue NW, Washington, DC 20580, (202) 326-2633.

SUPPLEMENTARY INFORMATION: Publication of the Performance Review Board (PRB) membership is required by 5 U.S.C. 4314 (c)(4). The PRB reviews and evaluates the initial appraisal of a senior executive’s performance by the supervisor, and makes recommendations regarding performance ratings, performance awards, and pay-for-performance pay adjustments to the Chairman.

The following individuals have been designated to serve on the Commission’s Performance Review Board:

Charles H. Schneider, Executive Director, Chairman

Brian Huseman, Chief of Staff

Jeffrey Schmidt, Director, Bureau of Competition

Lydia B. Parnes, Director, Bureau of Consumer Protection

Michael Baye, Director, Bureau of Economics

William Blumenthal, General Counsel

By direction of the Commission.

Donald S. Clark,
Secretary.

[FR Doc. E7-17708 Filed 9-6-07; 8:45 am]

BILLING CODE 6750-01-S